DEPARTMENT OF HEALTH AND HUMAN SERVICES

National Institutes of Health

National Institutes of Health/National Institute of Environmental Health Sciences; Submission for OMB Review; Comment Request; Active Living by Design Program Evaluation

SUMMARY: Under the provisions of Section 3507(a)(1)(D) of the Paperwork Reduction Act of 1995, the National Institute of Environmental Health Sciences (NIEHS), the National Institute of Health (NIH) has submitted to the Office of Management and Budget (OMB) a request to review and approve the information collection listed below. This proposed information collection was previously published in the Federal Register on February 14, 2005 (Volume 70, Number 29, Pages 7508-7509, and allowed 60-days for public comment. No public comments were received. The purpose of this notice is to allow an additional 30 days for public comment. The National Institutes of Health may not conduct or sponsor, and the respondent is not required to respond to the collection of information unless it displays a currently valid OMB control number.

Proposed Collection: Title: Active Living by Design Program Evaluation. Type of Information Collection Request: NEW. Need and Use of Information Collection: The purpose of this study is to provide NIEHS with an overall evaluation of the Active Living by Design (ALbD) program to determine the extent to which program strategies to increase physical activity influence change, as measured by increased physical activity and reduction of Body Mass Index (BMI), in residents of participating communities. The objective of this study is to determine the degree to which the changes in the built environment, communication strategies and policy as a result of ALbD's program has impacted physical activity and BMI in residents within the twenty-five (25) participating communities relative to a set of ten (10) control communities.

Two types of data collection will occur throughout the study. A telephone survey, which relies on self-reports, and a clinical survey, which will collect physical activity data using measures of physical activity such as, accelerometers; measures of BMI and an interview on respondents' perceptions of their neighborhood. The findings of this study will provide valuable information concerning (1) The Impact ALbD strategies have on increasing physical activity and bringing about positive changes in health associated with exercise, such as weight loss; and (2) possible reduction of health risks and diseases related to physical inactivity through implementation of ALbd strategies. Frequency of Response: Three times over a period of five (5) years, during three rounds of data collection. Affected Public: Individuals or households. Type of Respondents: Respondents includes adults and children ages 13 through 17 years and their parents. The clinical procedures require respondents under 18 years of age to be accompanied by their parent/guardian, therefore the burden has been doubled for these respondents. The annual reporting burden is respected in the following table:

Type of respondents | Number of respondents | Frequency of response | Average time per response | Annual hour burden
Respondents to Telephone Survey | 2,450 | 1 | .334 | 818.3
Respondents to Clinical Study—Adults | 1,855 | 1 | .9185 | 1,703.8
Respondents to Clinical Study—Children/Parent | 595 | 1 | 1.837 | 1,093.0
Total |  |  |  | 3,615.1

There are no Capital Costs to report. There are no Operating or Maintenance Costs to report.

Request For Comments: Written comments and/or suggestions from the public and affected agencies should address one or more of the following points: (1) Evaluate whether the proposed collection of information is necessary for the proper performance of the function of the agency, including whether the information will have practical utility; (2) evaluate the accuracy of the agency's estimate of the burden of the proposed collection of information, including the validity of the methodology and assumptions used; (3) enhance the quality, utility, and clarity of the information to be collected; and (4) minimize the burden of the collection of information on those who are to respond, including the use of appropriated automated, electronic, mechanical, or other technological collection techniques or other forms of information technology.

Direct Comments To OMB: Written comments and/or suggestions regarding the item(s) contained in this notice, especially regarding the estimated public burden and associated response time, should be directed to the: Office of Management and Budget, Office of Regulatory Affairs, New Executive Office Building, Room 10235, Washington, DC 20503, Attention: Desk Officer for NIH. To request more information on the proposed project or to obtain a copy of the data collection plans and instruments, contact: Shobha Srinivasan, Ph.D., Division of Extramural Research and Training, National Institute of Environmental Health Sciences, P.O. Box 12233, MD EC-21, 111 T.W. Alexander Drive, RTP, NC 27709. Phone: (919) 541-2506. Fax: (919) 316-4606. E-mail: ss688k@nih.gov.

Comments Due Date: Comments regarding this information collection are best assured of having their full effect if received within 30-days of the date of this publication.

Dated: September 15, 2005.
Richard A. Freed,
NIEHS, Associate Director for Management.

[FR Doc. 05-19175 Filed 9-26-05; 8:45 am]

BILLING CODE 4140-01-M